DEPARTMENT OF TRANSPORTATION

Federal Aviation Administration

14 CFR Part 39

[Docket No. FAA-2014-0751; Directorate Identifier 2013-NM-188-AD]

RIN 2120-AA64

Airworthiness Directives; Kidde Graviner

AGENCY: Federal Aviation Administration (FAA), DOT.

ACTION: Notice of proposed rulemaking (NPRM).

SUMMARY: We propose to adopt a new airworthiness directive (AD) for certain Kidde Graviner hand-operated fire extinguishers as installed on, but not limited to, various transport and small airplanes. This proposed AD was prompted by a report that a fire extinguisher failed to operate when the activation lever was pressed. This proposed AD would require modifying the affected fire extinguishers. We are proposing this AD to prevent fire extinguishers from failing to operate in the event of a fire, which could jeopardize occupants' safety and continuation of safe flight and landing.

DATES: We must receive comments on this proposed AD by December 1, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Kidde Graviner Limited, Mathisen Way, Colnbrook, Slough, Berkshire, SL3 0HB, United Kingdom; telephone +44 (0) 1753 583245; fax +44 (0) 1753 685040. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0751; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Caspar Wang, Aerospace Engineer, Boston Aircraft Certification Office (ACO), FAA, Engine & Propeller Directorate, 12 New England Executive Park, Burlington, MA 01803; phone: 781-238-7799; fax: 781-238-7170; email: caspar.wang@faa.gov.

SUPPLEMENTARY INFORMATION:

Comments Invited

We invite you to send any written relevant data, views, or arguments about this proposed AD. Send your comments to an address listed under the ADDRESSES section. Include “Docket No. FAA-2014-0751; Directorate Identifier 2013-NM-188-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0037, dated March 9, 2012 (referred to after this as the Mandatory Continuing Airworthiness Information, or “the MCAI”), to correct an unsafe condition for certain Kidde Graviner hand-operated fire extinguishers as installed on, but not limited to, various transport and small airplanes. The MCAI states:

An instance occurred where an operator tried to use the fire extinguisher, but the extinguisher failed to operate when the activation lever was pressed.

This condition, if not detected and corrected, could lead, in case of need to use the device to extinguish a fire on an aircraft, to jeopardize the occupants' safety as well as the flight continuation and safe landing.

The part manufacturer Kidde Graviner has introduced a design change to remove the root cause of the possible failure.

This AD requires to modify all potentially defective fire extinguishers [including applying adhesive to the gland nut].

You may examine the MCAI in the AD docket on the Internet at http://www.regulations.gov by searching for and locating it in Docket No. FAA-2014-0751.

Relevant Service Information

Kidde Graviner has issued Alert Service Bulletin A26-081, Revision 1, dated January 31, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 400 appliances installed on, but not limited to, various transport and small airplanes of U.S. registry.

We also estimate that it would take about 25 work-hours per product to comply with the basic requirements of this proposed AD. The average labor rate is $85 per work-hour. Based on these figures, we estimate the cost of this proposed AD on U.S. operators to be up to $850,000, or $2,125 per appliance.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Kidde Graviner: Docket No. FAA-2014-0751; Directorate Identifier 2013-NM-188-AD.

(a) Comments Due Date

We must receive comments by December 1, 2014.

(b) Affected ADs

None.

(c) Applicability

This AD applies to Kidde Graviner hand-operated fire extinguishers having part numbers 56412-001 (34H), 56411-001 (35H), and 56412-002 (38H). These fire extinguishers may be installed on, but not limited to, various transport and small airplanes, certificated in any category, specified in paragraphs (c)(1), (c)(2), (c)(3), (c)(4), (c)(5), and (c)(6) of this AD.

(1) BAE Systems (Operations) Limited Model ATP airplanes.

(2) BAE Systems (Operations) Limited Model 4101 airplanes.

(3) EADS CASA (Type Certificate previously held by Construcciones Aeronauticas, S.A.) Model C-212-CB, C-212-CC, C-212-CD, C-212-CE, C-212-CF, C-212-DE, and C-212-DF airplanes.

(4) Fokker Services B.V. Model F.27 Mark 050, 100, 200, 300, 400, 500, 600, and 700 airplanes.

(5) Short Brothers PLC Model SD3-60 SHERPA, SD3-SHERPA, SD3-30, and SD3-60 airplanes.

(6) SHORT BROTHERS & HARLAND LTD SC-7 Series 2 and SC-7 Series 3 airplanes.

(d) Subject

Air Transport Association (ATA) of America Code 26, Fire Protection.

(e) Reason

This AD was prompted by a report that a fire extinguisher failed to operate when the activation lever was pressed. We are issuing this AD to prevent fire extinguishers from failing to operate in the event of a fire, which could jeopardize occupants' safety and continuation of safe flight and landing.

(f) Compliance

Comply with this AD within the compliance times specified, unless already done.

(g) Modification

Within 6 months after the effective date of this AD, modify all Kidde Graviner hand-operated fire extinguishers having part numbers 56412-001 (34H), 56411-001 (35H), and 56412-002 (38H), in accordance with the Accomplishment Instructions of Kidde Graviner Alert Service Bulletin A26-081, Revision 1, dated January 31, 2012.

(h) Credit for Previous Actions

This paragraph provides credit for actions required by paragraph (g) of this AD, if those actions were performed before the effective date of this AD using Kidde Graviner Alert Service Bulletin A26-081, dated August 23, 2011, which is not incorporated by reference in this AD.

(i) Parts Installation Prohibition

As of the effective date of this AD, no person may install any Kidde Graviner hand-operated fire extinguisher having part number 56412-001 (34H), 56411-001 (35H), or 56412-002 (38H) on any airplane unless the fire extinguisher has been modified as specified in paragraph (g) of this AD.

(j) Other FAA AD Provision

The following provision for Alternative Methods of Compliances (AMOCs) also applies to this AD: The manager of the office having certificate responsibility for the affected product has the authority to approve AMOCs for this AD, if requested using the procedures found in 14 CFR 39.19. In accordance with 14 CFR 39.19, send your request to your principal inspector or local Flight Standards District Office, as appropriate. The Manager, Boston Aircraft Certification Office (ACO), FAA, will coordinate requests for approval of AMOCs with the manager of the appropriate office for the affected product. Send information to ATTN: Caspar Wang, Aerospace Engineer, Boston Aircraft Certification Office (ACO), FAA, Engine & Propeller Directorate, 12 New England Executive Park, Burlington, MA 01803; phone: 781-238-7799; fax: 781-238-7170; email: caspar.wang@faa.gov. Before using any approved AMOC, notify your appropriate principal inspector, or lacking a principal inspector, the manager of the local flight standards district office/certificate holding district office. The AMOC approval letter must specifically reference this AD.

(k) Related Information

(1) Refer to Mandatory Continuing Airworthiness Information (MCAI) European Aviation Safety Agency (EASA) Airworthiness Directive 2012-0037, dated March 9, 2012, for related information. This MCAI may be found in the AD docket on the Internet at http://www.regulations.gov by searching for and locating it in Docket No. FAA-2014-0751.

(2) For service information identified in this AD, contact Kidde Graviner Limited, Mathisen Way, Colnbrook, Slough, Berkshire, SL3 0HB, United Kingdom; telephone +44 (0) 1753 583245; fax +44 (0) 1753 685040. You may view this service information at the FAA, Transport Airplane Directorate, 1601 Lind Avenue SW., Renton, WA. For information on the availability of this material at the FAA, call 425-227-1221.

Issued in Renton, Washington, on September 23, 2014.
Michael Kaszycki,
Acting Manager, Transport Airplane Directorate, Aircraft Certification Service.

[FR Doc. 2014-24556 Filed 10-15-14; 8:45 am]

BILLING CODE 4910-13-P